DEPARTMENT OF HOMELAND SECURITY

Coast Guard

33 CFR Part 165

[Docket No. USCG-2012-0466]

Safety Zones; Recurring Events in Captain of the Port New York Zone

AGENCY: Coast Guard, DHS.

ACTION: Notice of enforcement of regulation.

SUMMARY: The Coast Guard will enforce various safety zones in the Sector New York area of responsibility on various dates and times. This action is necessary to ensure the safety of vessels and spectators from hazards associated with fireworks displays. During the enforcement period, no person or vessel may enter the safety zone without permission of the Captain of the Port (COTP).

DATES: The regulations for the safety zones described in 33 CFR 165.160 will be enforced on the dates and times listed in the table below.

FOR FURTHER INFORMATION CONTACT: If you have questions on this notice, call or email Ensign Kimberly Farnsworth, Coast Guard; telephone 718-354-4163, email Kimberly.A.Farnsworth@uscg.mil.

SUPPLEMENTARY INFORMATION: The Coast Guard will enforce the safety zone listed in 33 CFR 165.160 on the specified dates and times as indicated in Table 1 below. If the event is delayed by inclement weather, the regulation will be enforced on the rain date indicated in Table 1 below. These regulations were published in the Federal Register on November 9, 2011 (76 FR 69614).

Table 1
1. Bronx Salutes America Fireworks, Orchard Beach Safety Zone, 33 CFR 165.160(3.11) | • Launch site: All waters of Long Island Sound in an area bound by the following points: 40°51′43.5″ N, 073°47′36.3″ W; thence to 40°52′12.2″ N, 073°47′13.6″ W; thence to 40°52′02.5″ N, 073°46′47.8″ W; thence to 40°51′32.3″ N, 073°47′09.9″ W (NAD 1983), thence to the point of origin.
| • Date: June 29, 2012.
| • Time: 8:50 p.m.-10:12 p.m.
2. City of Newburgh Fireworks, Newburgh Hudson River Safety Zone, 33 CFR 165.160(5.12) | • Launch site: A barge located in approximate position 41°30′01.2″ N, 073°59′42.5″ W (NAD 1983), approximately 930 yards east of Newburgh, New York.
| • Date: July 4, 2012.
| • Time: 9 p.m.-10:30 p.m.

Under the provisions of 33 CFR 165.160, a vessel may not enter the regulated area unless given express permission from the COTP or the designated representative. Spectator vessels may transit outside the regulated area but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: May 21, 2012.
G.P. Hitchen,
Captain, U.S. Coast Guard, Acting Captain of the Port New York.

[FR Doc. 2012-13889 Filed 6-7-12; 8:45 am]

BILLING CODE 9110-04-P